DEPARTMENT OF COMMERCE

International Trade Administration

[A-122-503]

Iron Construction Castings from Canada: Rescission of Antidumping Duty Administrative Review

AGENCY: Import Administration, International Trade Administration, Department of Commerce.

ACTION: Notice of rescission of antidumping duty administrative review.

EFFECTIVE DATE: December 10, 2002.

FOR FURTHER INFORMATION CONTACT: Karine Gziryan or Howard Smith, AD/CVD Enforcement, Office 4, Group II, Import Administration, International Trade Administration, U.S. Department of Commerce, 14th Street and Constitution Avenue, NW., Washington, DC 20230; telephone: (202) 482-4081 and (202) 482-5193, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act. In addition, unless otherwise indicated, all citations to the Department's regulations are to the regulations at 19 CFR part 351 (2002).

Background

On March 1, 2002, the Department of Commerce (the Department) published a notice of opportunity to request an administrative review of the antidumping duty order on iron construction castings from Canada covering the period March 1, 2001 through February 28, 2002 (67 FR 9438).

On April 17, 2002, pursuant to a request by Canada Pipe Company, Ltd. (Canada Pipe), the Department initiated an administrative review of the antidumping duty order on iron construction castings from Canada for the period March 1, 2001, through February 28, 2002, (67 FR 20089) (April 24, 2002). On November 25, 2002, Canada Pipe withdrew its request for an administrative review.

Rescission of Review

Section 351.213(d)(1) of the Department's regulations provides that a party that requests an administrative review may withdraw the request within 90 days after the date of publication of the notice of initiation of the requested administrative review. Although Canada Pipe withdrew its request for the review after the 90-day period had expired, the Department is rescinding the administrative review of the order on iron construction castings from Canada for the period March 1, 2001, through February 28, 2002 because no other party requested a review of Canada Pipe and it is otherwise reasonable to rescind the review. This action is consistent with the Department's practice. See e.g., Frozen Concentrated Orange Juice From Brazil; Final Results and Partial Rescission of Antidumping Duty Administrative Review, 67 FR 40913 (June 14, 2002) where, pursuant to a request filed after the 90 day deadline, the Department rescinded the review with respect to one respondent because the review of that respondent had not progressed beyond a point where it would have been unreasonable to grant the request for rescission.

This notice is in accordance with section 777(i)(1) of the Act and 19 CFR 351.213(d)(4).

Dated: November 29, 2002.
Holly A. Kuga,
Acting Deputy Assistant Secretary for Import Administration.

[FR Doc. 02-31151 Filed 12-9-02; 8:45 am]

BILLING CODE 3510-DS-P